DEPARTMENT OF COMMERCE

Bureau of Industry and Security

15 CFR Part 766

[Docket No. 100603238-0235-01]

RIN 0694-AE93

Export Administration Regulations; Technical Amendments

AGENCY: Bureau of Industry and Security, Commerce.

ACTION: Final rule; technical amendments.

SUMMARY: In this final rule, the Bureau of Industry and Security (BIS) makes a technical amendment to the Export Administration Regulations (EAR). Specifically, BIS deletes references concerning Federal court jurisdiction for judicial review of final decisions and orders issued in BIS export control administrative enforcement proceedings and in administrative appeals of BIS temporary denial orders. Federal court jurisdiction to review these orders is governed by statute, not by regulation.

DATES: Effective Date: This rule is effective June 15, 2010

ADDRESSES: You may submit comments, identified by RIN 0694-AE93, by any of the following methods:

• E-mail: publiccomments@bis.doc.gov. Include “RIN 0694-AE93” in the subject line of the message.

• Fax: (202) 482-3355. Please alert the Regulatory Policy Division, by calling (202) 482-2440, if you are faxing comments.

• Mail or Hand Delivery/Courier: Sheila Quarterman, U.S. Department of Commerce, Bureau of Industry and Security, Regulatory Policy Division, 14th Street & Pennsylvania Avenue, NW., Room 2705, Washington, DC 20230, Attn: RIN 0694-AE93.

Send comments regarding the collection of information associated with this rule, including suggestions for reducing the burden to Jasmeet Seehra, Office of Management and Budget (OMB), by e-mail to Jasmeet_K._Seehra@omb.eop.gov or by fax to (202) 395-7285. Comments on this collection of information should be submitted separately from comments on the final rule (i.e., RIN 0694-AE93)—all comments on the latter should be submitted by one of the three methods outlined above.

FOR FURTHER INFORMATION CONTACT: Sheila Quarterman, Bureau of Industry and Security, Office of Exporter Services, Regulatory Policy Division, by phone at 202-482-2440 or by fax 202-482-3355.

SUPPLEMENTARY INFORMATION:

Background

In this rule, BIS makes a technical amendment to the Export Administration Regulations (EAR) to remove three references concerning Federal court jurisdiction to review certain BIS enforcement orders. Paragraph (e) of section 766.22 discusses judicial review of a final decision and order by the Under Secretary for Industry and Security in a BIS export control administrative proceeding. Section 766.24 contains two references to judicial review. Paragraph (g) of section 766.24 discusses judicial review of a final decision and order by the Under Secretary concerning the administrative appeal of a temporary denial order issued by the Assistant Secretary for Export Enforcement, and paragraph (e)(5) of the same section includes a reference to paragraph (g). Federal court jurisdiction to review these BIS final orders is governed by statute, not by regulation. BIS is deleting these provisions, which were not promulgated with the intent to create or govern Federal court jurisdiction.

Since August 21, 2001, the Export Administration Act has been in lapse and the President, through Executive Order 13222 of August 17, 2001 (3 CFR, 2001 Comp., p. 783 (2002)), as extended most recently by the Notice of August 13, 2009 (74 FR 41325 (August 14, 2009)), has continued the EAR in effect under the International Emergency Economic Powers Act.

Rulemaking Requirements

1. This final rule has been determined to be not significant for the purposes of Executive Order 12866.

2. Notwithstanding any other provisions of law, no person is required to respond to nor be subject to a penalty for failure to comply with a collection of information, subject to the requirements of the Paperwork Reduction Act of 1995 (44 U.S.C. 3501, et seq.) (PRA), unless that collection of information displays a currently valid Office of Management and Budget (OMB) Control Number. This rule does not involve a collection of information, and, therefore, does not implicate requirements of the PRA.

3. This rule does not contain policies with Federalism implications as that term is defined under Executive Order 13132.

4. The Department finds that there is good cause under 5 U.S.C. 553(b)(A) and (B) to waive the provisions of the Administrative Procedure Act requiring prior notice and the opportunity for public comment because they are unnecessary. This rule is one of procedure, which is exempted from the notice and comment requirements of the APA. This rule only deletes provisions from Part 766 that discuss federal court jurisdiction, which is an issue governed by statute, not by regulation. Because these revisions are not substantive changes, it is unnecessary to provide notice and opportunity for public comment. In addition, the 30-day delay in effectiveness required by 5 U.S.C. 553(d) is not applicable because this rule is not a substantive rule. Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Sheila Quarterman, Regulatory Policy Division, Bureau of Industry and Security, U.S. Department of Commerce, 14th Street & Pennsylvania Avenue, NW., Room 2705, Washington, DC 20230.

List of Subjects in 15 CFR Part 766

Administrative practice and procedure, Confidential business information, Exports, Law enforcement, Penalties.

Accordingly, 15 CFR part 766 of the Export Administration Regulations (15 CFR Parts 730-774) is amended as follows:

PART 766—[AMENDED]

1. The authority citation for 15 CFR Part 766 continues to read as follows:

Authority: 50 U.S.C. app. 2401 et seq.; 50 U.S.C. 1701 et seq.; E.O. 13222, 66 FR 44025, 3 CFR, 2001 Comp., p. 783; Notice of August 13, 2009, 74 FR 41325 (August 14, 2009).

§ 766.22 [Amended]

2. In § 766.22, remove paragraph (e).

§ 766.24 [Amended]

3. In § 766.24, remove the last sentence from paragraph (e)(5) and remove paragraph (g).

Dated: June 11, 2010.
Matthew S. Borman,
Deputy Assistant Secretary for Export Administration.

[FR Doc. 2010-14525 Filed 6-14-10; 8:45 am]

BILLING CODE 3510-33-P